COMMODITY FUTURES TRADING COMMISSION

Agency Information Collection Activities: Notice of Intent To Extend Collection 3038-0005: Rules Relating to the Operations and Activities of Commodity Pool Operators and Commodity Trading Advisors and to Monthly Reporting by Futures Commission Merchants

AGENCY: Commodity Futures Trading Commission.

ACTION: Notice.

SUMMARY: The Commodity Futures Trading Commission (CFTC or Commission) is announcing an opportunity for public comment on the collection of certain information by the Commission. Under the Paperwork Reduction Act (PRA), Federal agencies are required to publish notice in the Federal Register concerning each proposed collection of information, including proposed extension of an existing collection of information, and to allow 60 days for public comment. This Federal Register notice solicits comments on the PRA implications of renewing the collection of data by the Commission, including comments addressing the burden to the entities in collecting the relevant information.

DATES: Comments must be submitted on or before September 11, 2023.

ADDRESSES: You may submit comments, identified by “OMB Control No. 3038-0005” by any of the following methods:

• The Agency's website, at https://comments.cftc.gov/. Follow the instructions for submitting comments through the website.

• Mail: Christopher Kirkpatrick, Secretary of the Commission, Commodity Futures Trading Commission, Three Lafayette Centre, 1155 21st Street NW, Washington, DC 20581.

• Hand Delivery/Courier: Same as Mail above.

Please submit your comments using only one method. All comments must be submitted in English, or if not, accompanied by an English translation. Comments will be posted as received to https://www.cftc.gov.

FOR FURTHER INFORMATION CONTACT: Amanda Olear, Director, (202) 418-5283, aolear@cftc.gov; Pamela Geraghty, Deputy Director, (202) 418-5634, pgeraghty@cftc.gov; Peter Sanchez, Acting Associate Director, (202) 418-5237, psanchez@cftc.gov; or Elizabeth Groover, Special Counsel, (202) 418-5985, egroover@cftc.gov, Market Participants Division, Commodity Futures Trading Commission, 1155 21st Street NW, Washington, DC 20581.

SUPPLEMENTARY INFORMATION: Under the PRA, Federal agencies must obtain approval from the Office of Management and Budget (OMB) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information before submitting the collection to OMB for approval. To comply with this requirement, the CFTC is publishing notice of the collection of information listed below. An agency may not conduct or sponsor, and a person is not required to respond to, a collection of information unless it displays a currently valid OMB number.

Title: Rules Relating to the Operations and Activities of Commodity Pool Operators and Commodity Trading Advisors and to Monthly Reporting by Futures Commission Merchants (OMB control number 3038-0005). This is a request for extension of a currently approved information collection.

Abstract: The various collections of information required by part 4 ¹ of the Commission's regulations were previously approved by OMB in accordance with the PRA and assigned OMB control number 3038-0005. The Commission offers the following summary of the renewal to the notice and the resulting estimated impact on existing burden hour estimates associated with this information collection.

¹ 17 CFR 4.1-4.41.

The Commodity Exchange Act (CEA) empowers the Commission with the authority to require commodity pool operators (CPOs) and commodity trading advisors (CTAs) to maintain books and records and to file reports as required by the Commission.² The Commission also has the power to promulgate such regulations as it deems necessary to implement the purposes of the CEA.³ It is pursuant to this authority that the Commission has promulgated the various compliance requirements for CPOs and CTAs in 17 CFR part 4. The reporting, filing, and recordkeeping requirements within part 4 of the Commission's regulations were adopted to assist and inform customers, to establish customer protection initiatives for investors, to facilitate monitoring intermediary compliance with part 4 regulations by the Commission and its delegee, the National Futures Association (NFA), and to enable the Commission to better monitor the market risks posed by its registrants. The information collections are necessary to enable the Commission and NFA to accomplish the purposes of both the CEA and the compliance regime set forth in part 4 of the Commission's regulations.

² 7 U.S.C. 6n(3).

³ 7 U.S.C. 8a(5).

With regard to the information collection discussed above, the CFTC invites comments on:

• Whether the proposed collection of information is necessary for the proper performance of the functions of the Commission, including whether the information will have a practical use;

• The accuracy of the Commission's estimate of the burden of the proposed revision to the collection of information, including the validity of the methodology and assumptions used;

• Ways to enhance the quality, usefulness, and clarity of the information to be collected; and

• Ways to minimize the burden of collection of information on those who are to respond, including through the further use of appropriate automated electronic, mechanical, or other technological collection techniques or other forms of information technology; e.g., permitting electronic submission of responses.

You should submit only information that you wish to make available publicly. If you wish the Commission to consider information that you believe is exempt from disclosure under the Freedom of Information Act, a petition for confidential treatment of the exempt information may be submitted according to the procedures established in § 145.9 of the Commission's regulations.⁴

⁴ 17 CFR 145.9.

The Commission reserves the right, but shall have no obligation, to review, pre-screen, filter, redact, refuse or remove any or all of your submission from https://www.cftc.gov that it may deem to be inappropriate for publication, such as obscene language. All submissions that have been redacted or removed that contain comments on the merits of the Information Collection Request will be retained in the public comment file and will be considered as required under the Administrative Procedure Act and other applicable laws, and may be accessible under the Freedom of Information Act.

Burden Statement: The respondent burden for this collection is estimated to be as follow:

Respondents/affected entities: (1) All persons filing reports required by Part 4 for, and (2) all principals of such persons.

Estimated number of respondents: 49,083.

Estimated number of exempt pools/reports per respondent: 8.8.

Estimated total annual burden on respondents: 432,325 hours.

(Authority: 44 U.S.C. 3501 et seq.)

Dated: July 7, 2023.
Robert Sidman,
Deputy Secretary of the Commission.

[FR Doc. 2023-14773 Filed 7-11-23; 8:45 am]

BILLING CODE P